FEDERAL COMMUNICATIONS COMMISSION

47 CFR Part 73

[DA 00-649; MM Docket No. 99-9; RM-9434, RM-9597]

Radio Broadcasting Services; Lancaster, Groveton and Milan, NH

AGENCY: Federal Communications Commission.

ACTION: Final rule.

SUMMARY: The Commission, at the request of North Country Radio, Inc., allots Channel 229A to Groveton, NH, as the community's first local aural service, and denies the request of Dana Puopolo to allot Channel 229A to Lancaster, NH, as the community's second local FM service. See 64 FR 5625, February 4, 1999. This action also dismisses the counterproposal of Barry P. Lunderville to allot Channel 229A to Milan, NH, as the community's first local aural service, because Channel 229A, at the proposed coordinates, cannot provide the entire community with the required 70 dBu signal due to the intervening terrain. In addition, the counterproposal did not comply with the subscription and verification requirements of Section 1.52 of the Commission's Rules. Channel 229A can be allotted to Groveton in compliance with the Commission's minimum distance separation requirements with a site restriction of 10 kilometers (6.2 miles) northwest, at coordinates 44-33-55 North Latitude; 71-37-48 West Longitude, to avoid a short-spacing to Station WMWV, Channel 228A, Conway, NH. Canadian concurrence in the allotment, as a specially negotiated short-spaced allotment with respect to unoccupied and unapplied-for Channel 229A at East Angus, Quebec, has been obtained since Groveton is located within 320 kilometers (200 miles) of the U.S.-Canadian border. A filing window for Channel 229A at Groveton will not be opened at this time. Instead, the issue of opening a filing window for this channel will be addressed by the Commission in a subsequent order.

DATES: Effective May 8, 2000.

FOR FURTHER INFORMATION CONTACT: Leslie K. Shapiro, Mass Media Bureau, (202) 418-2180.

SUPPLEMENTARY INFORMATION: This is a synopsis of the Commission's Report and Order, MM Docket No. 99-9, adopted March 15, 2000, and released March 24, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under New Hampshire, is amended by adding Groveton, Channel 229A.

Federal Communications Commission.
John A. Karousos,
Chief, Allocations Branch, Policy and Rules Division, Mass Media Bureau.

[FR Doc. 00-8170 Filed 4-3-00; 8:45 am]

BILLING CODE 6717-01-P